DEPARTMENT OF COMMERCE

National Oceanic and Atmospheric Administration

[RTID 0648-XD547]

Endangered and Threatened Species; Take of Anadromous Fish

AGENCY: National Marine Fisheries Service (NMFS), National Oceanic and Atmospheric Administration (NOAA), Commerce.

ACTION: Notice of availability of a draft environmental assessment; request for comments.

SUMMARY: Notice is hereby given that NMFS has prepared a draft Environmental Assessment under the National Environmental Policy Act (NEPA) describing the potential effects of the continued operation of one hatchery program in the San Joaquin River Basin of California. The Hatchery and Genetic Management Plan (HGMP) for the program was prepared and submitted by the United States Fish and Wildlife Service (USFWS) and the California Department of Fish and Wildlife (CDFW). All comments and other information received will become part of the public record and will be available for review.

DATES: Comments or requests for a public hearing on the applications must be received at the appropriate address or fax number (see ADDRESSES) no later than 5 p.m. Pacific standard time on December 26, 2023.

ADDRESSES: Written comments on the application should be addressed to the NMFS California Central Valley Office, 650 Capitol Mall, Suite 5-100, Sacramento, CA 95814. Comments may also be submitted via email to Meiling.Colombano@noaa.gov. Include in the subject line of the email comment the following identifier: Comments on SJRRP 10(a)(1)(A) Enhancement Permit EA. When commenting on the draft environmental assessment, please refer to the specific page number and line number of the subject of your comment.

FOR FURTHER INFORMATION CONTACT: Meiling Colombano, Sacramento, CA, at phone number: (916) 930-3695, or via email: Meiling.Colombano@noaa.gov.

SUPPLEMENTARY INFORMATION:

ESA-Listed Species Covered in This Notice

Chinook salmon (Oncorhynchus tshawytscha): threatened, naturally produced and artificially propagated Central Valley spring-run (CVSR).

Steelhead (O. mykiss): threatened, naturally produced and artificially propagated California Central Valley (CCV).

Green sturgeon (Acipenser medirostris): threatened, naturally produced southern distinct population segment (sDPS).

Background

The USFWS and CDFW, under the auspices of the San Joaquin River Restoration Program (SJRRP), are working to restore a CVSR Chinook salmon population in the San Joaquin River. The reintroduced CVSR Chinook salmon, taken from one or more out-of-basin stocks, are designated as a non-essential, experimental population under Section 10(j) of the ESA, and have associated 4(d) take provisions (78 FR 79622; December 31, 2013). The SJRRP determined that a conservation hatchery would be the preferred and primary strategy for reintroducing CVSR Chinook salmon to the San Joaquin River. The San Joaquin River Salmon Conservation and Research Program (Conservation Program) involves the operation of two facilities: the Salmon Conservation and Research Facility (SCARF) currently under construction, with completion expected in 2024, and an interim SCARF (Interim Facility) currently in operation. The Conservation Program is operated as an Integrated-Recovery hatchery program, intended to help meet fisheries management objectives while achieving restoration and recovery goals.

This CVSR Chinook salmon HGMP submitted by the USFWS and CDFW, pursuant to section 10(a)(1)(A) of the ESA (16 U.S.C. 1531 et seq.) and regulations governing listed fish and wildlife permits (50 CFR 222), provides guidance on the management and operation of the SCARF and Interim Facility in the San Joaquin River Basin. The HGMP and the associated Section 10(a)(1)(A) enhancement permit application (20571-2R) were made available for public review and comment on March 7, 2023 (88 FR 14147). On June 26, 2023, NMFS determined that the submitted HGMP was sufficient for consideration under Section 10(a)(1)(A) of the ESA. The draft environmental assessment available for comment evaluates the potential effects of approving the CVSR Chinook salmon HGMP and issuing Section 10(a)(1)(A) Permit 20571-2R to the USFWS and CDFW.

Authority

NEPA requires Federal agencies to conduct an environmental analysis of their proposed actions to determine if the actions may affect the human environment. Therefore, NMFS is seeking public input on the scope of the required NEPA analysis, including the range of reasonable alternatives and associated impacts of any alternatives.

Dated: November 17, 2023.
Angela Somma,
Chief, Endangered Species Division, Office of Protected Resources, National Marine Fisheries Service.

[FR Doc. 2023-25878 Filed 11-22-23; 8:45 am]

BILLING CODE 3510-22-P